DEPARTMENT OF ENERGY

Federal Energy Regulatory Commission

Notice of Intent To File an Application for a New License

January 25, 2001.

Take notice that the Notice of Intent has been filed with the commission and is available for public inspection.

a. Type of Filing: Notice of Intent to File An Application for a New License.

b. Project No.: 1893.

c. Date Filed: December 29, 2000.

d. Submitted By: Public Service of New Hampshire—current licensee.

e. Name of Project: Merrimack River Hydroelectric Project.

f. Location: On the Merrimack River, in Hillsborough and Merrimack Counties, New Hampshire. The project does not occupy federal lands of the United States.

g. Filed Pursuant: Section 15 of the Federal Power Act.

h. Licensee Contact: James Kearns, Northeast Generation Services, 273 Dividend Road, Rocky Hill, CT 06067 (860) 665-5936.

i. FERC Contact: Allan Creamer, allan.creamer@ferc.fed.us, (202) 219-0365.

j. Effective date of current license: May 1, 1980.

k. Expiration date of current license: December 31, 2005.

1. Description of the Project: The project consists of the following three developments:

The Amoskeag Development consists of the following existing facilities: (1) A 29-foot-high, 710-foot-long concrete gravity dam comprised of: (i) A low crest section with 5-foot-high flashboards; and (ii) a high crest section with 3-foot-high flashborads; (2) a 7-mile-long, 478-acre reservoir; (3) a powerhouse, integral with the dam, containing three generating units with a total installed capacity of 16,000 kW, (4) a 415-foot-long, 34.5-kV double circuit transmission line;; and (5) other appurtenances.

The Hooksett Development consists of the following existing facilities: (1) A dam comprised of: (i) A 340-foot-long stone masonry section with 2-foot-high flashboards connected to; (ii) a 250-foot-long concrete section with 2-foot-high flashboards; (2) a 15-foot by 20-foot Taintor gate; (3) a 5.5-mile-long, 405-acre reservoir; (4) a powerhouse containing a single generating unit with an installed capacity of 1,600 kW; and (5) other appurtenances.

The Garvins Falls Development consists of the following existing facilities: (1) An 18-foot-high, 550-foot-long concrete and granite gravity dam comprised of: (i) A low crest section with 3-foot-high flashboards; and (ii) a high crest section with 1.2-foot-high flashboards; (2) an 8-mile-long reservoir; a 500-foot-long water-canal with a 10-foot-wide waste gate; (4) a powerhouse containing four generating units with a total installed capacity of 12,100 kW, (5) a 340-foot-long, 34.5-kV transmission line, and (6) other appurtenances.

m. Each application for a new license and any competing license applications must be filed with the Commission at least 24 months prior to the expiration of the existing license. All applications for license for this project must be filed by December 31, 2002.

David P. Boergers,
Secretary.

[FR Doc. 01-2596 Filed 1-30-01; 8:45 am]

BILLING CODE 6717-01-M